ENVIRONMENTAL PROTECTION AGENCY

40 CFR Part 52

[IN193-1b; FRL-6566-6]

Approval and Promulgation of State Plans for Designated Facilities and Pollutants; Indiana; Control of Landfill Gas Emissions From Existing Municipal Solid Waste Landfills

AGENCY: Environmental Protection Agency (EPA).

ACTION: Proposed rule.

SUMMARY: The EPA is proposing to approve the Indiana State Plan submittal for implementing the Municipal Solid Waste (MSW) Landfill Emission Guidelines. The State submitted this plan to EPA in accordance with requirements found in the Clean Air Act (Act) and the requirements for State plans for designated facilities in 40 CFR part 60, subpart B. The submittal establishes performance standards for existing MSW landfills and provides for the implementation and enforcement of those standards. The EPA proposes to find that Indiana's Plan for existing MSW landfills adequately addresses all of the Federal requirements applicable to such plans. EPA's proposed approval of the State's MSW Landfill Plan also includes rules submitted to EPA on November 21, 1995, and February 14, 1996, as volatile organic compound control measures. EPA approved the incorporation of these rules into the Indiana SIP on January 17, 1997. In this action, EPA is proposing to include these rules as part of the Indiana MSW Landfill Plan.

DATES: Written comments must be received on or before April 27, 2000.

ADDRESSES: Written comments should be mailed to: J. Elmer Bortzer, Chief, Regulation Development Section, Air Programs Branch (AR-18J), Environmental Protection Agency, Region 5, 77 West Jackson Boulevard, Chicago, Illinois 60604.

Copies of the State submittal are available for inspection at: Regulation Development Section, Air Programs Branch (AR-18J), Environmental Protection Agency, Region 5, 77 West Jackson Boulevard, Chicago, Illinois 60604.

FOR FURTHER INFORMATION CONTACT: Randolph O. Cano, Environmental Protection Specialist, Regulation Development Section, Air Programs Branch (AR-18J), Environmental Protection Agency, Region 5, 77 West Jackson Boulevard, Chicago, Illinois 60604, (312) 886-6036.

SUPPLEMENTARY INFORMATION:

Throughout this document wherever “we,” “us” or “our” are used we mean EPA.

Table of Contents

I. What action is EPA taking today?

II. Where can I find more information about this proposal and the corresponding direct final rule?

I. What Action Is EPA Taking Today?

We have examined the State's 111(d) revision request and the supporting documentation provided by the State. Based on the merits of the information supplied, EPA is proposing to approve Indiana's 111(d) plan for control of landfill gas from existing MSW landfills which was submitted to EPA on September 30, 1999. EPA is also proposing to add rules for controlling volatile organic compound emissions from existing MSW landfills located in Clark, Floyd, Lake and Porter Counties to the State's 111(d) plan. These rules, contained in 326 IAC 8-8, were originally submitted to EPA as part of the Indiana Ozone Plan on November 21, 1995 and February 14, 1996. EPA approved the incorporation of these rules into the Ozone Plan on January 17, 1997 (62 FR 2593). EPA codified its approval of these State rules at 40 CFR 52.770(c)(110).

II. Where Can I Find More Information About This Proposal and the Corresponding Direct Final Rule?

For additional information see the direct final rule published in the final rules section of this Federal Register.

Dated: March 17, 2000.
Francis X. Lyons,
Regional Administrator, Region 5.

[FR Doc. 00-7622 Filed 3-27-00; 8:45 am]

BILLING CODE 6560-50-U